DEPARTMENT OF EDUCATION

[Docket No.: ED-2020-SCC-0132]

Agency Information Collection Activities; Submission to the Office of Management and Budget for Review and Approval; Comment Request; Report of the Randolph-Sheppard Vending Facility Program

AGENCY: Office of Special Education and Rehabilitation Services (OSERS), Department of Education (ED).

ACTION: Notice.

SUMMARY: In accordance with the Paperwork Reduction Act of 1995, ED is proposing a revision of a currently approved collection.

DATES: Interested persons are invited to submit comments on or before December 23, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Christine Grassman, 202-245-6973.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of the Randolph-Sheppard Vending Facility Program.

OMB Control Number: 1820-0009.

Type of Review: A revision of a currently approved collection.

Respondents/Affected Public: State, Local, and Tribal Governments.

Total Estimated Number of Annual Responses: 51.

Total Estimated Number of Annual Burden Hours: 1,199.

Abstract: The Vending Facility Program authorized by the Randolph-Sheppard Act provides persons who are blind with remunerative employment and self-support through the operation of vending facilities on Federal and other property. Under the Randolph Sheppard Program, State licensing agencies (SLAs) recruit, train, license and place individuals who are blind as operators of vending facilities (including cafeterias, snack bars, vending machines, etc.) located on federal and other properties. In statute at 20 U.S.C. 107a(6)(a), the Secretary of Education is directed through the Commissioner of the Rehabilitation Services Administration (RSA) to conduct periodic evaluations of the programs authorized under the Randolph-Sheppard Act. The information to be collected is a necessary component of the evaluation process and forms the basis for annual reporting. These data are also used to understand the distribution type and profitability of vending facilities throughout the country. Such information is useful in providing technical assistance to SLAs and property managers. The Code of Federal Regulations, at 34 CFR 395.8, specifies that vending machine income received by the State from Federal property managers can be distributed to blind vendors in an amount not to exceed the national average income for blind vendors. This amount is determined through data collected using RSA-15: Report of Randolph-Sheppard Vending Facility Program. In addition, the collection of information ensures the provision and transparency of activities referenced in 34 CFR 395.12 related to disclosure of program and financial information. The Department is requesting a revision to the information collection regarding the statute at 20 U.S.C. 107a(6)(a), the Secretary of Education is directed through the Commissioner of the Rehabilitation Services Administration (RSA) to conduct periodic evaluations of the programs authorized under the Randolph-Sheppard Act and the increase in burden is due to adding instructions, adding an acquisition change and a new element.

Dated: November 18, 2020.
Kate Mullan,
PRA Coordinator, Strategic Collections and Clearance, Governance and Strategy Division, Office of Chief Data Officer, Office of Planning, Evaluation and Policy Development.

[FR Doc. 2020-25776 Filed 11-20-20; 8:45 am]

BILLING CODE 4000-01-P